DEPARTMENT OF TRANSPORTATION

Federal Aviation Administration

Notice of Passenger Facility Charge (PFC) Approvals and Disapprovals

AGENCY: Federal Aviation Administration (FAA), DOT.

ACTION: Monthly Notice of PFC Approvals and Disapprovals, In September 2006, there were six applications approved. This notice also includes information on two applications, approved in August 2006, inadvertently left off the August 2006 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Springfield Airport Authority, Springfield, Illinois.

Application Number: 06-10-C-00-SPI.

Application Type: Impose and use a PFC.

PFC Level: $4.50.

Total PFC Revenue Approved in This Decision: $233,000.

Earliest Charge Effective Date: November 1, 2006.

Estimated Charge Expiration Date: July 1, 2007.

Class of Air Carriers Not Required to Collect PFC's: On-demand air taxis.

Determination: Approved. Based on information contained in the public agency's application, the FAA has determined that the approved class accounts for less than 1 percent of the total annual enplanements at Abraham Lincoln Capital Airport.

Brief Description of Projects Approved for Collection and Use:

Fire alarm upgrade terminal building.

Replace roof 1 terminal building (freight area).

Terminal study update.

Widen taxiways G and F and construct perimeter road.

Storm sewer rehabilitation study.

Storm sewer rehabilitation phase 1.

Replace perimeter fence, phases 1 and 2.

Decision Date: August 25, 2006.

FOR FURTHER INFORMATION CONTACT: Chad Oliver, Chicago Airports District Office, (847) 294-7199.

Public Agency: City of Eugene, Oregon.

Application Number: 06-08-C-00-EUG.

Application Type: Impose and use a PFC.

PFC Level: $4.50.

Total PFC Revenue Approved in This Decision: $2,645,000.

Earliest Charge Effective Date: March 1, 2007.

Estimated Charge Expiration Date: May 1, 2009.

Classes of Air Carriers Not Required to Collect PFC's: None.

Brief Description of Projects Approved for Collection and Use:

Taxiway Echo and A5 reconstruction.

Taxiway Alpha overlay (from A3 to A1).

Jet bridge replacement.

Snow removal equipment replacement vehicle.

Decision Date: August 29, 2006.

FOR FURTHER INFORMATION CONTACT: Wade Bryant, Seattle Airports District Office, (425) 227-2659.

Public Agency: City of Valdosta, Georgia.

Application Number: 06-08-C-00-VLD.

Application Type: Impose and use a PFC.

PFC Level: $3.00.

Total PFC Revenue Approved in This Decision: $12,140.

Earliest Charge Effective Date: November 1, 2006.

Estimated Charge Expiration Date: January 1, 2007.

Class of Air Carriers Not Required to Collect PFC's: None.

Brief Description of Projects Approved for Collection and Use:

Commercial ramp expansion (design).

Taxiway A rehabilitation (design).

Groove runway 17/35 extension (design).

Update airport master plan.

Decision Date: September 1, 2006.

FOR FURTHER INFORMATION CONTACT: Parks Preston, Atlanta Airports District Office, (404) 305-7149.

Public Agency: Metropolitan Nashville Airport Authority, Nashville, Tennessee.

Application Number: 06-12-C-00-BNA.

Application Type: Impose and use a PFC.

PFC Level: $3.00.

Total PFC Revenue Approved in This Decision: $21,671,262.

Earliest Charge Effective Date: December 1, 2009.

Estimated Charge Expiration Date: June 1, 2011.

Class of Air Carriers Not Required to Collect PFC's: Air taxi/commercial operators filing FAA Form 1800-31.

Determination: Approved. Based on information contained in the public agency's application, the FAA has determined that the approved class accounts for less than 1 percent of the total annual enplanements at Nashville International Airport.

Brief Description of Projects Approved for Collection and Use:

Runway 13/31 reconstruction.

Multi-user flight information display system upgrade.

Design of 2L/20R and 2R/20L runway safety areas.

Aircraft rescue and firefighting building expansion.

Ticketing level canopy extension.

Retaining wall on taxiways Juliet and Lima.

Hangar lane access improvements.

General aviation master plan.

Loading bridges (four).

Snow broom.

Master drainage plan/deicing runoff plan.

Lighting upgrade on runways 2L and 13/31.

Surface sweeper.

Exhibit A property map.

Airport rotating beacon.

Lightning protection for apron lights.

Decision Date: September 5, 2006.

FOR FURTHER INFORMATION CONTACT: Peggy Kelley, Memphis Airports District Office, (901) 322-8186.

Public Agency: Jacksonville Aviation Authority, Jacksonville, Florida.

Application Number: 06-09-C-00-JAX.

Application Type: Impose and use a PFC.

PFC Level: $4.50.

Total PFC Revenue Approved in This Decision: $267,389,352.

Earliest Charge Effective Date: January 1, 2008.

Estimated Charge Expiration Date: December 1, 2023.

Class of Air Carriers Not Required to Collect PFC's: Air taxi/commercial operators.

Determination: Approved. Based on information contained in the public agency's application, the FAA has determined that the approved class accounts for less than 1 percent of the total annual enplanements at Jacksonville International Airport.

Brief Description of Projects Approved for Collection and Use at a $4.50 PFC Level:

Design and construction of concourses A and C.

Apron related to construction of new terminal building.

Apron, taxiway, and aircraft rescue and firefighting hardstand pavement rehabilitation.

Aircraft rescue and firefighting vechicle.

Brief Description of Projects Approved for Collection and Use at a $3.00 PFC Level:

Aircraft Americans with Disabilities Act lift.

Airport master plan update.

Land acquisition.

PFC implementation and administrative costs.

Decision Date: September 6, 2006.

FOR FURTHER INFORMATION CONTACT: Susan Moore, Orlando Airports District Office, (407) 812-6331, extension 120.

Public Agency: City of Cody, Wyoming.

Application Number: 06-05-C-00-COD.

Application Type: Impose and use a PFC.

PFC Level: $4.50.

Total PFC Revenue Approved in This Decision: $534,096.

Earliest Charge Effective Date: November 1, 2006.

Estimated Charge Expiration Date: March 1, 2010.

Class of Air Carriers Not Required to Collect PFC's: On-demand, non-scheduled air taxi/commercial operators.

Determination: Approved. Based on information contained in the public agency's application, the FAA has determined that the approved class accounts for less than 1 percent of the total annual enplanements at Yellowstone Regional Airport.

Brief Description of Projects Approved for Collection and Use:

Existing terminal renovation.

New terminal design, phase 1.

PFC consulting services.

Master plan.

New terminal design, phase 2.

New terminal construction, phase 1.

New terminal construction, phase 2.

New terminal construction, phase 3.

Decision Date: September 7, 2006.

for further information contact: Chris Schaffer, Denver Airports District Office, (303) 342-1258.

Public Agency: City of Long Beach, California.

Application Number: 06-03-C-00-LGB.

Application Type: Impose and use a PFC.

PFC Level: $3.00.

Total PFC Revenue Approved in This Decision: $7,148,186.

Earliest Charge Effective Date: May 1, 2017.

Estimated Charge Expiration Date: December 1, 2018.

Class of Air Carriers Not Required to Collect PFC's. Nonscheduled/on-demand air carriers filing FAA Form 1800-31.

Determination: Approved. Based on information contained in the public agency's application, the FAA has determined that the approved class accounts for less than 1 percent of the total annual enplanements at Long Beach/Daugherty Field.

Brief Description of Projects Approved for Collection and Use:

Airfield pavement and infrastructure.

Airfield fencing.

Aircraft rescue and firefighting vehicles.

Accessibility equipment.

Decision Date: September 13, 2006.

for further information contact: Ruben Cabalbag, Los Angeles Airports District Office, (310) 725-3630.

Public Agency: County of Kenton and Kenton County Airport Board, Covington, Kentucky.

Application Number: 06-10-C-00-CVG.

Application Type: Impose and use a PFC.

PFC Level: $3.00.

Total PFC Revenue Approved in This Decision: $30,821,000.

Earliest Charge Effective Date: March 1, 2013.

Estimated Charge Expiration Date: January 1, 2015.

Class of Air Carriers Not Required to Collect PFC's:

(1) Part 121 supplemental operators which operate at the airport without an operating agreement with the public agency and enplane less than 1,500 passengers per year; and

(2) Part 135 on-demand air taxis, both fixed wing and rotary.

Determination: Approved. Based on information contained in the public agency's application, the FAA has determined that each approved class accounts for less than 1 percent of the total annual enplanements at Cincinnati/Northern Kentucky International Airport.

Brief Description of Projects Approved for Collection and Use:

Terminal loop road rehabilitation.

Rehabilitation of runway 18L/36R, taxiways T and S, and airfield signage and marking improvements.

Storm-water treatment detention facility improvement—Elijah's Creek and Gunpowder Creek.

Replace identification badging workstations.

Brief Description of Project Partially Approved for Collection and Use:

Terminal 3 security expansion.

Determination: The proposed relocation of murals from the terminal to the new security building has been determined to be ineligible.

Decision Date: September 26, 2006.

FOR FURTHER INFORMATION CONTACT: Charles Harris, Memphis Airports District Office, (901) 322-8182.

Amendments to PFC Approvals
Amendment No. City, State | Amendment approved date | Original approved net PFC revenue | Amended approved net PFC revenue | Originial estimated charge exp. date | Amended estimated charge exp. date
94-01-C-02-PIA Peoria, IL | 09/08/06 | $2,885,171 | $2,368,712 | 07/01/01 | 07/01/01
* 05-01-C-01-PIE St. Petersburg, FL | 09/12/06 | 3,357,639 | 3,357,639 | 11/01/07 | 02/01/09
02-04-C-02-TOL Toledo, OH | 09/14/06 | 3,927,997 | 3,820,436 | 11/01/06 | 07/01/07
97-03-C-03-GEG Spokane, WA | 09/15/06 | 35,859,822 | 38,175,419 | 05/01/05 | 05/01/05
04-04-C-01-GEG Spokane, WA | 09/15/06 | 4,461,711 | 4,680,431 | 05/01/06 | 12/01/05
05-05-C-01-GEG Spokane, WA | 09/15/06 | 9,577,800 | 13,827,800 | 10/01/09 | 12/01/07
05-06-C-01-SYR Syracuse, NY | 09/18/06 | 6,119,197 | 6,719,197 | 02/0107 | 02/01/07
00-03-C-02-PVD Providence, RI | 09/20/06 | 41,689,000 | 31,869,715 | 08/01/12 | 01/01/11
04-04-U-01-PVD Providence, RI | 09/20/06 | NA | NA | 08/01/12 | 01/01/11

Note: The amendment denoted by an asterisk (*) includes a change to the PFC level charged from $3.00 per enplaned passenger to $4.50 per enplaned passenger. For St. Petersburg, FL, this change is effective on November 1, 2006.

Issued in Washington, DC on October 19, 2006.
Joe Hebert,
Manager, Financial Analysis and Passenger Facility Charge Branch.

[FR Doc. 06-8973 Filed 10-30-06; 8:45 am]

BILLING CODE 4910-13-M